DEPARTMENT OF THE INTERIOR

Fish and Wildlife Service

Harvest and Export of American Ginseng

AGENCY: Fish and Wildlife Service, Interior.

ACTION: Notice: request for information from the public; announcement of public meeting.

SUMMARY: We, the U.S. Fish and Wildlife Service (Service), announce a public meeting on American ginseng (Panax quinquefolius). This meeting will help us gather information from the public in preparation for our 2006 findings on the export of American ginseng roots, for the issuance of permits under the Convention on International Trade in Endangered Species of Wild Fauna and Flora (CITES).

DATES: The meeting date is: Saturday, March 11, 2006, 10 a.m. to 3 p.m., with a one-hour lunch break from 12 p.m. to 1 p.m.

ADDRESSES: The meeting location is: Sutton/Flatwoods—Days Inn, 2000 Sutton Lane, Sutton, West Virginia 26601; (304) 765-5055.

FOR FURTHER INFORMATION CONTACT: For further information, or directions to the meeting, contact Ms. Pat Ford, Division of Scientific Authority, U.S. Fish and Wildlife Service, 4401 N. Fairfax Drive, Room 750, Arlington, VA 22203; 703-358-1708 (telephone), 703-358-2276 (fax), or patricia_ford@fws.gov (e-mail).

SUPPLEMENTARY INFORMATION:

Background

The Convention on International Trade in Endangered Species of Wild Fauna and Flora (CITES, or Convention) is an international treaty designed to control and regulate international trade in certain animal and plant species that are now or potentially may be threatened with extinction by international trade. Currently, 169 countries, including the United States, are Parties to CITES. The species for which trade is controlled are listed in Appendices I, II, and III of the Convention. Appendix I includes species threatened with extinction that are or may be affected by international trade. Commercial trade in Appendix-I species is prohibited. Appendix II includes species that, although not necessarily threatened with extinction at the present time, may become so unless their trade is strictly controlled through a system of export permits. Appendix II also includes species that CITES must regulate so that trade in other listed species may be brought under effective control (i.e., because of similarity of appearance between listed species and other species). Appendix III comprises species subject to regulation within the jurisdiction of any CITES Party country that has requested the cooperation of the other Parties in regulating international trade in the species.

American ginseng (Panax quinquefolius) was listed in Appendix II of CITES on July 1, 1975. The Division of Scientific Authority and the Division of Management Authority of the Service regulate the export of American ginseng, including whole plants, whole roots, and root parts. To meet CITES requirements for export of American ginseng from the United States, the Division of Scientific Authority must determine that the export will not be detrimental to the survival of the species, and the Division of Management Authority must be satisfied that the American ginseng roots to be exported were legally acquired.

Since the inclusion of American ginseng in CITES Appendix II, the Divisions of Scientific Authority and Management Authority have issued findings on a State-by-State basis. To determine whether or not to approve exports of American ginseng, the Division of Scientific Authority has annually reviewed available information from various sources (other Federal agencies, State regulatory agencies, industry and associations, nongovernmental organizations, and academic researchers) on the biology and trade status of the species. After a thorough review, the Division of Scientific Authority makes a non-detriment finding and the Division of Management Authority makes a legal acquisition finding on the export of American ginseng to be harvested during the year in question. From 1999 through 2004, the Division of Scientific Authority included in its non-detriment finding for the export of wild (including wild-simulated and woodsgrown) American ginseng roots an age-based restriction (i.e., plants were required to be at least 5 years old). In 2005, the Division of Scientific Authority included in its non-detriment findings for the export of wild American ginseng roots an age-based restriction that plants must be at least 10 years old, and for the export of wild-simulated and woodsgrown American ginseng roots that plants must be at least 5 years old.

States with harvest programs for wild and/or artificially propagated American ginseng are: Alabama, Arkansas, Georgia, Idaho, Illinois, Indiana, Iowa, Kentucky, Maine, Maryland, Michigan, Minnesota, Missouri, New York, North Carolina, North Dakota, Ohio, Oregon, Pennsylvania, Tennessee, Vermont, Virginia, Washington, West Virginia, and Wisconsin.

Public Meeting

On Saturday, March 11, 2006, in Sutton, West Virginia, from 10 a.m. to 3 p.m., we will hold an open public meeting (a listening session) to hear from people involved or interested in American ginseng harvest and trade. We will break for lunch from 12 p.m. to 1 p.m. We are particularly interested in obtaining any current information on the status of American ginseng in the wild, and other pertinent information that would contribute to improvements in the CITES export program for this species. We will discuss the Federal regulatory framework for the export of American ginseng and how these regulations control the international trade of this species. We will also discuss the different CITES definitions as they are applied to American ginseng grown under different production systems and how these systems affect the export of American ginseng roots.

You may get directions to the meeting locations from the Division of Scientific Authority or the Division of Management Authority (see FOR FURTHER INFORMATION CONTACT or ADDRESSES). Persons planning to attend the March 11, 2006, meeting who require interpretation for the hearing impaired must notify the Division of Scientific Authority by March 1, 2006 (see FOR FURTHER INFORMATION CONTACT).

Author

The primary author of this notice is Pat Ford, the Division of Scientific Authority, U.S. Fish and Wildlife Service.

Dated: February 15, 2006.
William F. Hartwig,
Acting Director, Fish and Wildlife Service.

[FR Doc. E6-2532 Filed 2-22-06; 8:45 am]

BILLING CODE 4310-55-P